DEPARTMENT OF COMMERCE

[Docket No. 110228173-1173-01]

RIN 0605-XA34

Department of Commerce FY 2011-2016 Strategic Plan

AGENCY: Department of Commerce.

ACTION: Request for comment.

SUMMARY: The Department of Commerce (Department) is updating its current FY 2007-2012 Strategic Plan. As part of this process, the Department is inviting comments on its draft FY 2011-2016 Strategic Plan to comply with the Government Performance and Results Act of 1993 (GPRA), as well as the recently enacted GPRA Modernization Act.

DATES: Public comments on the draft Strategic Plan must be entered through the Federal eRulemaking Portal or received at the appropriate mailing or e-mail address (see addresses) no later than April 11, 2011.

ADDRESSES: Please submit comments through the Federal eRulemaking Portal at http://www.regulations.gov. Attachments to electronic comments may be submitted in Microsoft Word, Excel, or Adobe PDF formats. Commenters who do not have access to the Internet may mail comments to Mr. Stephen Shapiro, Office of the Deputy Secretary, U.S. Department of Commerce, 1401 Constitution Avenue NW., Room 5312, Washington, DC 20230. While on-line submission is preferred, comments may also be submitted via e-mail to sshapiro@doc.gov. Comments that are mailed or e-mailed also become part of the public record and will generally be posted to http://www.regulations.gov/ with all identifying information (name, address, affiliation) that is voluntarily submitted. Anonymous comments may be submitted on-line by entering “N/A” in identification fields. Please do not submit proprietary or other sensitive information you do not want made public.

The Department's current and draft Strategic Plans are posted at http://www.osec.doc.gov/bmi/budget/.

FOR FURTHER INFORMATION CONTACT: Mr. Stephen Shapiro, phone 202-482-3700, fax 202-482-2903, e-mail sshapiro@doc.gov.

SUPPLEMENTARY INFORMATION: Under the Government Performance and Results Act of 1993 (GPRA), as well as the recently enacted GPRA Modernization Act, each Federal agency must develop a strategic plan describing the agency's mission and strategic goals, and the means and strategies that will be used to achieve them. The plan must describe the relationship between annual performance goals and the agency's strategic goal framework. Annual performance plans for implementing the strategic plan are documented as elements of the Department's budget justifications. A key part of the statutory process for developing or updating a strategic plan includes consultation with Congress and other interested and potentially affected parties.

The structure of the draft strategic plan has changed from that of the previous plan, and incorporates the structure of the Department's new balanced scorecard. A balanced scorecard “balances” or equally emphasizes programmatic and management objectives, and contains measures that are tracked by senior leaders to support their day-to-day management activities. During the spring of 2010, Secretary Locke engaged with a broad cross-section of the Department's senior leadership to develop a balanced scorecard to deploy and execute this Strategic Plan. The Secretary directed a balanced scorecard approach to establish and maintain focus on the Department's top priorities, to institutionalize quarterly data-driven reviews with heads of operating units to monitor and ensure attainment of these priorities, and to emphasize that Customer Service, Organizational Excellence, and Workforce Excellence are prerequisites to the short and long-term achievement of the Department's programmatic goals.

The balanced scorecard approach monitors the Department's internal management processes and focuses its operating programs on priorities. This approach recognizes that follow-up and follow-through are critical to both the short and long-term success and sustainability of high-performing programs.

The Department's balanced scorecard and Strategic Plan are structured around three programmatic themes (Economic Growth, Science and Information, and Environmental Stewardship) and three management themes (Customer Service, Organizational Excellence, and Workforce Excellence). The Economic Growth theme is further subdivided into three goals (Innovation and Entrepreneurship, Market Development and Commercialization, and Trade Promotion and Compliance).

These themes and goals are further subdivided into 27 strategic objectives, which frame all of the Department's programs and supporting activities. Each objective narrative addresses the Department's strategies to achieve the objective, key challenges, external factors, contributing programs, and program evaluations. Narratives for the 18 programmatic objectives also include performance measures (i.e., GPRA measures) for tracking attainment.

The Department's Strategic Plan is implemented on an annual basis through the Annual Performance Plan for each operating unit. Results are published in the Department's annual Performance and Accountability Report. Copies of the Department's Annual Performance Plans and Performance and Accountability Reports are posted at http://www.osec.doc.gov/bmi/budget/.

Dated: March 4, 2011.
Scott Quehl,
Chief Financial Officer and Assistant Secretary for Administration.

[FR Doc. 2011-5563 Filed 3-10-11; 8:45 am]

BILLING CODE 3510-GA-P